DEPARTMENT OF THE INTERIOR

National Park Service

[N6452; NPS-WASO-NAGPRA-NPS0040864; PPWOCRADN0-PCU00RP14.R50000]

Notice of Intended Repatriation: Pennsylvania Historical and Museum Commission, State Museum of Pennsylvania, Harrisburg, PA

AGENCY: National Park Service, Interior.

ACTION: Notice.

SUMMARY: In accordance with the Native American Graves Protection and Repatriation Act (NAGPRA), the State Museum of Pennsylvania intends to repatriate certain cultural items that meet the definition of unassociated funerary objects and that have a cultural affiliation with the Indian Tribes or Native Hawaiian organizations in this notice.

DATES: Repatriation of the cultural items in this notice may occur on or after September 19, 2025.

ADDRESSES: Send additional, written requests for repatriation of the cultural items in this notice to Barbara Frederick, Pennsylvania Historical and Museum Commission, 400 North Street, Harrisburg, PA 17120, email bafrederic@pa.gov.

SUPPLEMENTARY INFORMATION: This notice is published as part of the National Park Service's administrative responsibilities under NAGPRA. The determinations in this notice are the sole responsibility of the Pennsylvania Historical and Museum Commission, State Museum of Pennsylvania, and additional information on the determinations in this notice, including the results of consultation, can be found in the summary or related records. The National Park Service is not responsible for the determinations in this notice.

Abstract of Information Available

A total of 112 cultural items have been requested for repatriation. The 112 unassociated funerary objects are a gorget fragment, points, biface, scraper, utilized flake, and chipping debris. This material was collected by David J. Werner during the mid to late 20th century. It was received by The State Museum of Pennsylvania in 2004 via donation from the estate of David J. Werner. The container label indicates these items were collected from the Hogan site in Morgan County, Alabama.

Determinations

The Pennsylvania Historical and Museum Commission, State Museum of Pennsylvania has determined that:

• The 112 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Alabama-Coushatta Tribe of Texas; Cherokee Nation; Eastern Band of Cherokee Indians; The Chickasaw Nation; and The Muscogee (Creek) Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 19, 2025. If competing requests for repatriation are received, the Pennsylvania Historical and Museum Commission, State Museum of Pennsylvania must determine the most appropriate requestor prior to repatriation. Requests for joint repatriation of the cultural items are considered a single request and not competing requests. The Pennsylvania Historical and Museum Commission, State Museum of Pennsylvania is responsible for sending a copy of this notice to the Indian Tribes and Native Hawaiian organizations identified in this notice and to any other consulting parties.

Authority: Native American Graves Protection and Repatriation Act, 25 U.S.C. 3004 and the implementing regulations, 43 CFR 10.9.

Dated: August 6, 2025.
Melanie O'Brien,
Manager, National NAGPRA Program.

[FR Doc. 2025-15858 Filed 8-19-25; 8:45 am]

BILLING CODE 4312-52-P